ENVIRONMENTAL PROTECTION AGENCY

[FRL-10023-06-OMS]

Privacy Act of 1974; System of Records

AGENCY: Office of Mission Support, Environmental Protection Agency (EPA).

ACTION: Notice of a modified system of records.

SUMMARY: The U.S. Environmental Protection Agency's (EPA or Agency), Office of Mission Support (OMS) is giving notice that it proposes to modify a system of records pursuant to the provisions of the Privacy Act of 1974. The Integrated Grants Management System (IGMS) is being modified to update and modernize the grants management suite. These updates include amending the name to Integrated Grants Management System (IGMS)/Next Generation Grants System (NGGS) and informing the public that the grants management module originally in IGMS Lotus Notes is now in NGGS, which is a modern platform employing Java/Oracle technologies. IGMS and NGGS are computer systems that the Agency uses to process grant applications and issue grants to recipients. The Agency will also use IGMS (without NGGS) to process interagency agreements, which are assistance agreements between Federal agencies. This System of Records Notice (SORN) modification updates all SORN sections.

DATES: Persons wishing to comment on this system of records notice must do so by July 6, 2021. New routine uses for this modified system of records will be effective July 6, 2021.

ADDRESSES: Submit your comments, identified by Docket ID No. EPA-HQ-OMS-2020-0257, by one of the following methods:

Federal eRulemaking Portal: https://www.regulations.gov. Follow the online instructions for submitting comments.

Email: docket_oms@epa.gov. Include the Docket ID number in the subject line of the message.

Fax: 202-566-1752.

Mail: OMS Docket, Environmental Protection Agency, Mail Code: 2822T, 1200 Pennsylvania Ave. NW, Washington, DC 20460.

Hand Delivery: OMS Docket, EPA/DC, WJC West Building, Room 3334, 1301 Constitution Ave. NW, Washington, DC 20460. Such deliveries are only accepted during the Docket's normal hours of operation, and special arrangements should be made for deliveries of boxed information.

Instructions: Direct your comments to Docket ID No. EPA-HQ-OMS-2020-0257. The EPA's policy is that all comments received will be included in the public docket without change and may be made available online at https://www.regulations.gov, including any personal information provided, unless the comment includes information claimed to be Controlled Unclassified Information (CUI) or other information for which disclosure is restricted by statute. Do not submit information that you consider to be CUI or otherwise protected through https://www.regulations.gov. The https://www.regulations.gov website is an “anonymous access” system for the EPA, which means the EPA will not know your identity or contact information. If you submit an electronic comment, the EPA recommends that you include your name and other contact information in the body of your comment. If the EPA cannot read your comment due to technical difficulties and cannot contact you for clarification, the EPA may not be able to consider your comment. If you send an email comment directly to the EPA without going through https://www.regulations.gov, your email address will be automatically captured and included as part of the comment that is placed in the public docket and made available on the internet. Electronic files should avoid the use of special characters, any form of encryption, and be free of any defects or viruses. For additional information about the EPA public docket, visit the EPA Docket Center homepage at https://www.epa.gov/dockets.

Docket: All documents in the docket are listed in the https://www.regulations.gov index. Although listed in the index, some information is not publicly available, e.g., CUI or other information for which disclosure is restricted by statute. Certain other material, such as copyrighted material, will be publicly available only in hard copy. Publicly available docket materials are available either electronically in https://www.regulations.gov or in hard copy at the OMS Docket, EPA/DC, WJC West Building, Room 3334, 1301 Constitution Ave. NW, Washington, DC 20460. The Public Reading Room is normally open from 8:30 a.m. to 4:30 p.m., Monday through Friday excluding legal holidays. The telephone number for the Public Reading Room is (202) 566-1744, and the telephone number for the OMS Docket is (202) 566-1752.

Temporary Hours During COVID-19

Out of an abundance of caution for members of the public and our staff, the EPA Docket Center and Reading Room are closed to the public, with limited exceptions, to reduce the risk of transmitting COVID-19. Our Docket Center staff will continue to provide remote customer service via email, phone, and webform. We encourage the public to submit comments via https://www.regulations.gov or email, as there may be a delay in processing mail and faxes. Hand deliveries and couriers may be received by scheduled appointment only. For further information on EPA Docket Center services and the current status, please visit us online at https://www.epa.gov/dockets.

FOR FURTHER INFORMATION CONTACT: William Etheredge, Office of Mission Support, Environmental Protection Agency, Ronald Reagan Building, Mail Code 3901R, 1200 Pennsylvania Avenue NW, Washington, DC 20460; email address, etheredge.william@epa.gov, telephone (202) 564-5353.

SUPPLEMENTARY INFORMATION: OMS is modifying the IGMS system of records to modernize the grants management suite. These updates include modernizing the grants module in NGGS that was originally in IGMS, while maintaining the interagency agreements functionality in IGMS. IGMS and NGGS are computer systems that the Agency uses to process grant applications and issue grants to recipients. As a result, the processing of grants may involve retrieval of information from both IGMS and NGGS. The Agency will use IGMS alone to process interagency agreements and thus will only retrieve information from IGMS for this purpose.

SYSTEM NAME AND NUMBER:

Integrated Grants Management System (IGMS)/Next Generation Grants System (NGGS), EPA-53.

SECURITY CLASSIFICATION:

Unclassified.

SYSTEM LOCATION:

National Computer Center (NCC), 109 TW Alexander Drive, Research Triangle Park, Durham, NC 27711.

SYSTEM MANAGER(S):

Michael Osinski, osinski.michael@epa.gov at 202-564-3792, Director, Office of Grants and Debarment, Environmental Protection Agency, Ronald Reagan Building, Mail Code 3901R, 1200 Pennsylvania Avenue NW, Washington, DC 20460.

Bruce Binder, binder.bruce@epa.gov at 202-564-4935, Acting Deputy Director, Office of Grants and Debarment, Environmental Protection Agency, Ronald Reagan Building, Mail Code 3901R, 1200 Pennsylvania Avenue NW, Washington, DC 20460.

AUTHORITY FOR MAINTENANCE OF THE SYSTEM:

US Environmental Protection Agency (EPA) Enterprise Information Management Policy (EIMP), CIO 2135.1, August 2019; Federal Grant and Cooperative Agreement Act, 31 U.S.C. 6301 et seq; Clean Air Act, 42 U.S.C. 7401 et seq.; Federal Water Pollution Control Act, 33 U.S.C. 1254 et seq.; Public Health Service Act, 42 U.S.C. 241 et seq.; Solid Waste Disposal Act, 42 U.S.C. 6901 et seq.; Federal Insecticide, Fungicide, and Rodenticide Act, 7 U.S.C. 136 et seq.; Safe Drinking Water Act, 42 U.S.C. 300j-1; Toxic Substances Control Act, 15 U.S.C. 2609; Comprehensive Environmental Response, Compensation, and Liability Act, 42 U.S.C. 9660.

PURPOSE(S) OF THE SYSTEM:

EPA uses IGMS and NGGS to manage grants in response to solicitations issued by EPA program offices. EPA uses IGMS alone to process interagency agreements.

CATEGORIES OF INDIVIDUALS COVERED BY SYSTEM:

EPA employees, non-EPA Federal government personnel, State or local government personnel.

CATEGORIES OF RECORDS IN THE SYSTEM:

EPA uses IGMS and NGGS to collect and maintain information on applicants for EPA grants. This includes recipient organization names, names of grant applicants, phone numbers, emails, and addresses. EPA also uses IGMS to collect and maintain information on applicants for EPA interagency agreements. This includes recipient organization names, names of interagency agreement applicants, phone numbers, email, and addresses.

RECORD SOURCE CATEGORIES:

The sources of information come from recipient organizations, Federal, State or local agencies. This information is collected from grant and interagency agreement applicants for the EPA grants and interagency agreements programs within the agency.

ROUTINE USES OF RECORDS MAINTAINED IN THE SYSTEM, INCLUDING CATEGORIES OF USERS AND PURPOSES OF SUCH USES:

The routine uses below are both related to and compatible with the original purpose for which the information was collected. The following general routine uses apply to this system (73 FR 2245):

A. Disclosure for Law Enforcement Purposes: Information may be disclosed to the appropriate Federal, State, local, tribal, or foreign agency responsible for investigating, prosecuting, enforcing, or implementing a statute, rule, regulation, or order, if the information is relevant to a violation or potential violation of civil or criminal law or regulation within the jurisdiction of the receiving entity.

B. Disclosure Incident to Requesting Information: Information may be disclosed to any source from which additional information is requested (to the extent necessary to identify the individual, inform the source of the purpose of the request, and to identify the type of information requested), when necessary to obtain information relevant to an agency decision concerning retention of an employee or other personnel action (other than hiring), retention of a security clearance, the letting of a contract, or the issuance or retention of a grant, or other benefit.

C. Disclosure to Requesting Agency: Disclosure may be made to a Federal, State, local, foreign, or tribal or other public authority of the fact that this system of records contains information relevant to the retention of an employee, the retention of a security clearance, the letting of a contract, or the issuance or retention of a license, grant, or other benefit. The other agency or licensing organization may then make a request supported by the written consent of the individual for the entire record if it so chooses. No disclosure will be made unless the information has been determined to be sufficiently reliable to support a referral to another office within the agency or to another Federal agency for criminal, civil, administrative, personnel, or regulatory action.

D. Disclosure to Office of Management and Budget: Information may be disclosed to the Office of Management and Budget at any stage in the legislative coordination and clearance process in connection with private relief legislation as set forth in OMB Circular No. A-19.

E. Disclosure to Congressional Offices: Information may be disclosed to a congressional office from the record of an individual in response to an inquiry from the congressional office made at the request of the individual.

F. Disclosure to Department of Justice: Information may be disclosed to the Department of Justice, or in a proceeding before a court, adjudicative body, or other administrative body before which the Agency is authorized to appear, when:

1. The Agency, or any component thereof;

2. Any employee of the Agency in his or her official capacity;

3. Any employee of the Agency in his or her individual capacity where the Department of Justice or the Agency have agreed to represent the employee; or

4. The United States, if the Agency determines that litigation is likely to affect the Agency or any of its components,

Is a party to litigation or has an interest in such litigation, and the use of such records by the Department of Justice or the Agency is deemed by the Agency to be relevant and necessary to the litigation provided, however, that in each case it has been determined that the disclosure is compatible with the purpose for which the records were collected.

G. Disclosure to the National Archives: Information may be disclosed to the National Archives and Records Administration in records management inspections.

H. Disclosure to Contractors, Grantees, and Others: Information may be disclosed to contractors, grantees, consultants, or volunteers performing or working on a contract, service, grant, cooperative agreement, job, or other activity for the Agency and who have a need to have access to the information in the performance of their duties or activities for the Agency. When appropriate, recipients will be required to comply with the requirements of the Privacy Act of 1974 as provided in 5 U.S.C. 552a(m).

K. Disclosure in Connection With Litigation: Information from this system of records may be disclosed in connection with litigation or settlement discussions regarding claims by or against the Agency, including public filing with a court, to the extent that disclosure of the information is relevant and necessary to the litigation or discussions and except where court orders are otherwise required under section (b)(11) of the Privacy Act of 1974, 5 U.S.C. 552a(b)(11).

The two routine uses below (L and M) are required by OMB Memorandum M-17-12.

L. Disclosure to Persons or Entities in Response to an Actual or Suspected Breach of Personally Identifiable Information: To appropriate agencies, entities, and persons when (1) the Agency suspects or has confirmed that there has been a breach of the system of records, (2) the Agency has determined that as a result of the suspected or confirmed breach there is a risk of harm to individuals, the Agency (including its information systems, programs, and operations), the Federal Government, or national security; and (3) the disclosure made to such agencies, entities, and persons is reasonably necessary to assist in connection with the Agency's efforts to respond to the suspected or confirmed breach or to prevent, minimize, or remedy such harm.

M. Disclosure to Assist Another Agency in Its Efforts to Respond to a Breach of Personally Identifiable Information: To another Federal agency or Federal entity, when the Agency determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

These records are maintained electronically on computer storage devices such as computer tapes and disks. The computer storage devices are located at EPA National Computer Center in Research Triangle Park, 109 T.W. Alexander Drive, Durham, NC 27709. Backup will be maintained at a disaster recovery site. Computer records are maintained in a secure password protected environment. Access to computer records is limited to those who have a need to know. Permission-level assignments will allow users access only to those functions for which they are authorized. Paper records are located at Environmental Protection Agency facilities to include Regions 1-10 and Headquarters located at the Ronald Reagan Building, Mail Code 3901R, 1200 Pennsylvania Avenue NW, Washington, DC 20460. All records are maintained in secure, access-controlled areas or buildings.

POLICIES AND PRACTICES FOR RETRIEVAL OF RECORDS:

Electronic files may be retrieved by applicant/recipient organization names and EPA grants and interagency agreements contact names.

POLICIES AND PRACTICES FOR RETENTION AND DISPOSAL OF RECORDS:

Records are retained and disposed of in accordance with National Archives and Records Administration record retention schedules appropriate to the retention as well as EPA Record Schedule 0009.

ADMINISTRATIVE, TECHNICAL, AND PHYSICAL SAFEGUARDS:

Security controls used to protect personal sensitive data in IGMS/NGGS are commensurate with those required for an information system rated MODERATE for confidentiality, integrity, and availability, as prescribed in National Institute of Standards and Technology (NIST) Special Publication, 800-53, “Security and Privacy Controls for Federal Information Systems and Organizations,” Revision 5.

1. Administrative Safeguards: EPA personnel and contractors must complete annual Agency Information Security and Privacy Awareness training. EPA instructs its personnel and contractors to lock and secure their computers when they leave their desks.

2. Technical Safeguards: EPA restricts IGMS/NGGS electronic records to authorized users with appropriate security privileges, including the use of 2-factor PIV Card authentication.

3. Physical Safeguards: All records are maintained in secure, access-controlled areas or buildings. Identification cards are verified to ensure only authorized personnel have access. Paper records are maintained in locked file cabinets.

RECORD ACCESS PROCEDURES:

Individuals seeking access to information in this system of records about themselves are required to provide adequate identification (e.g., driver's license, military identification card, employee badge or identification card). Additional identity verification procedures may be required, as warranted. Requests must meet the requirements of EPA regulations that implement the Privacy Act of 1974, at 40 CFR part 16.

CONTESTING RECORDS PROCEDURES:

Requests for correction or amendment must identify the record to be changed and the corrective action sought. Complete EPA Privacy Act procedures are described in EPA's Privacy Act regulations at 40 CFR part 16.

NOTIFICATION PROCEDURE:

Any individual who wants to know whether this system of records contains a record about him or her, should make a written request to the EPA, Attn: Agency Privacy Officer, MC 2831T, 1200 Pennsylvania Ave. NW, Washington, DC 20460, privacy@epa.gov.

EXEMPTIONS PROMULGATED FOR THE SYSTEM:

None.

HISTORY:

68 FR 68387—Posted on December 8, 2003.

Vaughn Noga,
Senior Agency Official for Privacy.

[FR Doc. 2021-11757 Filed 6-3-21; 8:45 am]

BILLING CODE 6560-50-P